DEPARTMENT OF LABOR

Occupational Safety and Health Administration

[Docket No. OSHA-2013-0030]

IAPMO Ventures, LLC dba IAPMO EGS: Grant of Renewal of Recognition

AGENCY: Occupational Safety and Health Administration (OSHA), Labor.

ACTION: Notice.

SUMMARY: In this notice, OSHA announces the final decision to grant renewal of recognition to IAPMO Ventures, LLC dba IAPMO EGS as a Nationally Recognized Testing Laboratory (NRTL).

DATES: The renewal of recognition becomes effective on March 5, 2021.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov.

SUPPLEMENTARY INFORMATION:

I. Notice of Final Decision

OSHA hereby gives notice that it is granting the renewal of recognition of IAPMO Ventures LLC, dba IAPMO EGS (IAPMO) as a NRTL under 29 CFR 1910.7.

OSHA recognition of a NRTL signifies that the organization meets the requirements in Section 1910.7 of Title 29, Code of Federal Regulations (29 CFR 1910.7). Recognition is an acknowledgment that the organization can perform independent safety testing and certification of the specific products covered within the scope of recognition and is not a delegation or grant of government authority. As a result of recognition, employers may use products properly approved by the NRTL to meet OSHA standards that require testing and certification. OSHA maintains an informational web page for each NRTL that details the scope of recognition available at http://www.osha.gov/dts/otpca/nrtl/index.html.

OSHA processes applications submitted by a NRTL for renewal of recognition following requirements in Appendix A to 29 CFR 1910.7. OSHA conducts renewals in accordance with the procedures in 29 CFR 1910.7, App. A II.C. In accordance with these procedures, NRTLs submit a renewal request to OSHA between nine months and one year before the expiration date of the current recognition. A renewal request includes a request for renewal and any additional information demonstrating their continued compliance with the terms of the recognition and 29 CFR 1910.7. If OSHA has not conducted an on-site assessment of the NRTL headquarters and any key sites within the past 18 to 24 months, it will schedule the necessary on-site assessment prior to the expiration date of the NRTL's recognition. Upon review of the submitted material and, as necessary, the successful completion of the on-site assessment, OSHA announces the preliminary decision to grant or deny renewal in the Federal Register and solicits comments from the public. OSHA then publishes a final Federal Register notice responding to any comments and renewing the NRTL's recognition for a period of five years, or denying the renewal of recognition.

IAPMO initially received OSHA recognition as a NRTL on December 22, 2014, for a five-year period expiring on December 22, 2019 (79 FR 76394). IAPMO submitted a timely request for renewal, dated March 11, 2019 (OSHA-2013-0030-0012), and retains its recognition pending OSHA's final decision in this renewal process. The current address of the IAPMO facility recognized by OSHA and included as part of the renewal request is IAPMO, 5001 East Philadelphia Street, Ontario, California 91761.

OSHA evaluated IAPMO's application for renewal and made a preliminary determination that IAPMO can continue to meet the requirements prescribed by 29 CFR 1910.7 for recognition.

OSHA published the preliminary notice announcing IAPMO's renewal application in the Federal Register on July 13, 2020 (85 FR 42019). The agency requested comments by July 28, 2020, and received no comments in response to this notice. OSHA is now proceeding with this final notice to renew IAPMO's NRTL recognition.

To obtain or review copies of all public documents pertaining to IAPMO's application for renewal, go to www.regulations.gov or contact the Docket Office, Occupational Safety and Health Administration, U.S. Department of Labor, 200 Constitution Avenue NW, Room N-3655, Washington, DC 20210; telephone (202) 693-2350. Docket No. OSHA-2013-0030 contains all materials in the record concerning IAPMO's NRTL recognition. Please note: Due to the COVID-19 pandemic, the Docket Office is closed to the public at this time but can be contacted at (202) 693-2350.

II. Final Decision and Order

OSHA hereby gives notice of the renewal of recognition of IAPMO as a NRTL. OSHA examined IAPMO's renewal application and all pertinent information related to IAPMO's request for renewal of NRTL recognition. Based on this review of the renewal request and other pertinent information, OSHA finds that IAPMO meets the requirements of 29 CFR 1910.7 for renewal of recognition as a NRTL, subject to the specified limitation and conditions. OSHA limits the renewal of IAPMO's recognition to include the terms and conditions of IAPMO's recognition found in 79 FR 76394. The NRTL scope of recognition for IAPMO is also available on the OSHA website at: https://www.osha.gov/dts/otpca/nrtl/iapmo.html. This renewal extends IAPMO's recognition as a NRTL for a period of five years from March 5, 2021.

A. Conditions

In addition to those conditions already required by 29 CFR 1910.7, IAPMO must abide by the following conditions of recognition:

1. IAPMO must inform OSHA as soon as possible, in writing, of any change of ownership, facilities, or key personnel, and of any major change in their operations as a NRTL, and provide details of the change(s);

2. IAPMO must meet all the terms of their recognition and comply with all OSHA policies pertaining to this recognition; and

3. IAPMO must continue to meet the requirements for recognition, including all previously published conditions on IAPMO's scope of recognition, in all areas for which it has recognition.

Pursuant to the authority in 29 CFR 1910.7, OSHA hereby renews the recognition of IAPMO as a NRTL.

III. Authority and Signature

Amanda L. Edens, Deputy Assistant Secretary of Labor for Occupational Safety and Health, 200 Constitution Avenue NW, Washington, DC 20210, authorized the preparation of this notice. Accordingly, the agency is issuing this notice pursuant to 29 U.S.C. 657(g)(2)), Secretary of Labor's Order No. 8-2020 (85 FR 58393, Sept. 18, 2020), and 29 CFR 1910.7.

Signed at Washington, DC, on March 1, 2021.
Amanda L. Edens,
Deputy Assistant Secretary of Labor for Occupational Safety and Health.

[FR Doc. 2021-04559 Filed 3-4-21; 8:45 am]

BILLING CODE 4510-26-P